DEPARTMENT OF AGRICULTURE

Agricultural Marketing Service

[Doc. No. AMS-LPS-13-0021]

Poultry Market News Reports; Request for Extension and Revision of the Currently Approved Information Collection and To Merge the Collections of Livestock, Poultry, Meat, Grain, and Their Related Products Used as Market News Information

AGENCY: Agricultural Marketing Service, USDA.

ACTION: Request for comments.

SUMMARY: In accordance with the Paperwork Reduction Act of 1995 (44 U.S.C. Chapter 35), this document announces Agricultural Marketing Service (AMS) intention to revise three previously approved collections by merging them into a single information collection. AMS recently merged its Livestock and Grain Market News Division with the Poultry Market News Division, creating the Livestock, Poultry and Grain Market News Division (LPGMN). Due to this organizational merger, AMS intends to combine the following collections, 0581-0033 “Poultry Market News Reports”, 0581-0005 “Grain Market News”, and 0581-0154 “Livestock and Meat Market News.” These collections will be combined into a single collection re-titled 0581-0033 “Livestock, Poultry, Meat, and Grain Market News Reports.” Finally, this document announces AMS intention to request approval for an extension to the re-titled collection 0581-0033 “Livestock, Poultry, Meat, and Grain Market News Reports.” LPGMN provides a timely exchange of accurate and unbiased information on current marketing conditions affecting trade in livestock, poultry, eggs, meats, grain, and wool.

DATES: Comments on this document must be received by July 29, 2013 to be assured of consideration.

ADDRESSES: Interested persons are invited to submit comments concerning this information collection document. Comments should be submitted online at www.regulations.gov or sent to Kim Harmon, Assistant to the Director, Livestock, Poultry and Grain Market News Division, Livestock, Poultry and Seed Program, Agricultural Marketing Service, U.S. Department of Agriculture, 1400 Independence Ave. S. W., Room 2619-S Washington, DC, 20250-0252, or by facsimile to (202) 690-3732. All comments should reference the document number (AMS-LPS-13-0021), the date, and the page number of this issue of the Federal Register. All comments received will be posted without change, including any personal information provided, online at http://www.regulations.gov and will be made available for public inspection at the above physical address during regular business hours.

FOR FURTHER INFORMATION CONTACT: Kim Harmon at the above physical address, by telephone (202) 720-8054, or by email at Kim.Harmon@ams.usda.gov.

SUPPLEMENTARY INFORMATION: Title: Poultry Market News Reports.

OMB Number: 0581-0033.

Expiration Date of Approval: December 31, 2013.

Type of Request: Revision and Extension of approval of an information collection.

Abstract: The Agricultural Marketing Act of 1946 (7 U.S.C. 1621-1627) as amended authorizes AMS, Market News Divisions to provide up-to-the-minute nationwide coverage of prices, supply, demands, trends, movement, and other pertinent information affecting the trading of livestock, poultry, meat, eggs, grain, and their related products. AMS recently merged the Livestock and Seed Program with the Poultry Programs. The newly combined program is called the Livestock, Poultry and Seed Program. Subsequently, the two respective market news divisions were also merged to form the LPGMN Division. The market reports compiled and disseminated by the LPGMN Division provide current, unbiased, and factual information to all members of the Nation's agricultural industry. Market news reports assist producers, processors, wholesalers, retailers, and others in making informed production, purchasing, and sales decisions. LPGMN reports also promote orderly marketing by placing buyers and sellers on a more equal negotiation basis.

LPGMN reporters communicate with buyers and sellers of livestock, poultry, meat, eggs, grain, and their respective commodities on a daily basis in order to accomplish the Program's mission. This communication and information gathering is accomplished through the use of telephone conversations, facsimile transmissions, face to face meetings, and electronic mail messages. The information provided by respondents initiates market news reporting, which must be timely accurate, unbiased, and continuous if it is to be meaningful to the industry. AMS will collect information on price, supply, demand, trends, movement, and other information of livestock, poultry, meat, grain, eggs, and their respective commodities. LPGMN uses one OMB approved form, PY-90: “Monthly Dried Egg Solids Stocks Report”, to collect inventory information from commercial dried egg products plants throughout the United States. Cooperating firms voluntarily submit this form to LPGMN primarily via electronic mail and facsimile transmissions.

With this revision, LPGMN is including information collection requirements currently approved by OMB control number 0581-0033 “Poultry Market News Reports” (Expires 12/31/2013), 0581-0005 “Grain Market News” (Expires 09/30/2014), and 0581-0154 “Livestock and Meat Market News” (Expires 06/30/2014) into one collection. After OMB approves and combines the burden for the collection under a single collection retitled “Livestock, Poultry, Meat, and Grain Market News Reports” (0581-0033), the Department will retire numbers 0581-0005 and 0581-0154. Merging the collections will enable the division to more efficiently manage the collection and prevent duplication of burden.

For Poultry Market News Reports 0581-0033

Estimate of Burden: Public reporting burden for this collection of information is estimated to average 0.083 hours per response.

Respondents: Producers, processors, brokers, distributors, retailers, and commercial dried egg products plants.

Estimated Number of Respondents: 411 respondents.

Estimated Total Annual Responses: 50,471 responses.

Estimated Number of Responses per Respondent: 122.80 responses.

Estimated Total Annual Burden on Respondents: 4,189 hours.

For Grain Market News 0581-0005

Estimate of Burden: Public reporting burden for this collection of information is estimated to average .033 hours per response.

Respondents: Business or other for-profit entities, individuals or households, farms, and Federal Government.

Estimated Number of Respondents: 1,737 respondents.

Estimated Total Annual Responses: 153,168 responses.

Estimated Number of Responses per Respondent: 88.18 responses.

Estimated Total Annual Burden on Respondents: 5,100 hours.

For Livestock and Meat Market News 0581-0154

Estimate of Burden: Public reporting burden for this collection of information is estimated to average .083 per response.

Respondents: Producers, processors, brokers, distributors, retailers, and wholesalers.

Estimated Number of Respondents: 520 respondents.

Estimated Total Annual Responses: 65,520 responses.

Estimated Number of Responses per Respondent: 126 responses.

Estimated Total Annual Burden on Respondents: 5,458 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Dated: May 21, 2013.
Rex A. Barnes,
Associate Administrator, Agricultural Marketing Service.

[FR Doc. 2013-12656 Filed 5-28-13; 8:45 am]

BILLING CODE 3410-02-P